COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add product to the Procurement List that will be furnished by nonprofit agencies employing persons who are blind or have other severe disabilities, and deletes products previously furnished by such agencies.

DATES: Comments must be received on or before December 23, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the product listed below from nonprofit agencies employing persons who are blind or have other severe disabilities.

The following product is proposed for addition to the Procurement List for production by the nonprofit agency listed:

Product

NSN—Product Name:

7195-00-NIB-2415—Back Rest, Ergonomic, Adjustable, Black, 17¼″ W x 5½″ D x 16″ H

Mandatory Source of Supply: Chicago Lighthouse Industries, Chicago, IL

Contracting Activity: Federal Acquisition Service, GSA/FSS Household and Industrial Furniture, Coverage for the Total Government Requirement as aggregated by the General Services Administration.

Deletions

The following products are proposed for deletion from the Procurement List:

Products:

NSNs—Product Names:

8405-00-NSH-1347—14-14.5 Neck, 32-33 Sleeve

8405-00-NSH-1351—16-16.5 Neck, 33-34 Sleeve

8405-00-NSH-1352—16-16.5 Neck, 34-35 Sleeve

8405-00-NSH-1348—14-14.5 Neck, 33-34 Sleeve

8405-00-NSH-1349—15-15.5 Neck, 33-34 Sleeve

8405-00-NSH-1350—15-15.5 Neck, 34-35 Sleeve

8405-00-NSH-1353—17-17.5 Neck, 34-35 Sleeve

8405-00-NSH-1354—17-17.5 Neck, 35-36 Sleeve

8405-00-NSH-1355—18-18.5 Neck, 35-36 Sleeve

8405-00-NSH-1356—18-18.5 Neck, 36-37 Sleeve

8405-00-NSH-1357—19-19.5 Neck, 36-37 Sleeve

8405-00-NSH-1358—19-19.5 Neck, 37-38 Sleeve

8405-00-NSH-1359—20-20.5 Neck, 37-38 Sleeve

8405-00-NSH-1360—20-20.5 Neck, 38-39 Sleeve

8405-00-NSH-1361—21-21.5 Neck, 38-39 Sleeve

8405-00-NSH-1362—21-21.5 Neck, 40-41 Sleeve

8405-00-NSH-1363—22-22.5 Neck, 40-41 Sleeve

8405-00-NSH-1364—22-22.5 Neck, 41-42 Sleeve

8405-00-NSH-1263—14-14.5 Neck, Small Tall

8405-00-NSH-1264—15-15.5 Neck, Medium Tall

8405-00-NSH-1265—16-16.5 Neck, Large Tall

8405-00-NSH-1266—17-17.5 Neck, X Large Tall

8405-00-NSH-1166—22-22.5 Neck, 6X Large

8405-00-NSH-1165—21-21.5 Neck, 5X Large

8405-00-NSH-1164—20-20.5 Neck, 4X Large

8405-00-NSH-1162—18-18.5 Neck, XX Large

8405-00-NSH-1161—17-17.5 Neck, X Large

8405-00-NSH-1160—16-16.5 Neck, Large

8405-00-NSH-1159—15-15.5 Neck, Medium

8405-00-NSH-1158—14-14.5 Neck, Small

8405-00-NSH-1163—19-19.5 Neck, XXX Large

8405-00-NSH-1267—18-18.5 Neck, XX Large Tall

8405-00-NSH-1268—19-19.5 Neck, XXX Large Tall

8405-00-NSH-1269—20-20.5 Neck, 4X Large Tall

8405-00-NSH-1270—21-21.5 Neck, 5X Large Tall

8405-00-NSH-1271—22-22.5 Neck, 6X Large Tall

8405-00-NSH-1127—16-16.5 Neck, 34-35 Sleeve

8405-00-NSH-1122—14-14.5 Neck, 32-33 Sleeve

8405-00-NSH-1123—14-14.5 Neck, 33-34 Sleeve

8405-00-NSH-1124—15-15.5 Neck, 33-34 Sleeve

8405-00-NSH-1125—15-15.5 Neck, 34-35 Sleeve

8405-00-NSH-1126—16-16.5 Neck, 33-34 Sleeve

8405-00-NSH-1128—17-17.5 Neck, 34-35 Sleeve

8405-00-NSH-1129—17-17.5 Neck, 35-36 Sleeve

8405-00-NSH-1130—18-18.5 Neck, 35-36 Sleeve

8405-00-NSH-1131—18-18.5 Neck, 36-37 Sleeve

8405-00-NSH-1132—19-19.5 Neck, 36-37 Sleeve

8405-00-NSH-1133—19-19.5 Neck, 37-38 Sleeve

8405-00-NSH-1134—20-20.5 Neck, 37-38 Sleeve

8405-00-NSH-1135—20-20.5 Neck, 38-39 Sleeve

8405-00-NSH-1136—21-21.5 Neck, 38-39 Sleeve

8405-00-NSH-1137—21-21.5 Neck, 40-41 Sleeve

8405-00-NSH-1138—22-22.5 Neck, 40-41 Sleeve

8405-00-NSH-1139—22-22.5 Neck, 41-42 Sleeve

8405-00-NSH-1103—Size 36

8405-00-NSH-1104—Size 38

8405-00-NSH-1105—size 40

8405-00-NSH-1106—size 42

8405-00-NSH-1107—size 44

8405-00-NSH-1108—size 46

8405-00-NSH-1109—size 48

8405-00-NSH-1099—Size 28

8405-00-NSH-1100—Size 30

8405-00-NSH-1101—Size 32

8405-00-NSH-1102—Size 34

8405-00-NSH-1114—Size 36

8405-00-NSH-1115—Size 38

8405-00-NSH-1116—size 40

8405-00-NSH-1117—size 42

8405-00-NSH-1118—size 44

8405-00-NSH-1119—size 46

8405-00-NSH-1120—size 48

8405-00-NSH-1121—size 50

8405-00-NSH-1110—Size 28

8405-00-NSH-1111—Size 30

8405-00-NSH-1112—Size 32

8405-00-NSH-1113—Size 34

8405-00-NSH-1369—Size 36

8405-00-NSH-1370—Size 38

8405-00-NSH-1371—size 40

8405-00-NSH-1372—size 42

8405-00-NSH-1373—size 44

8405-00-NSH-1374—size 46

8405-00-NSH-1375—size 48

8405-00-NSH-1376—size 50

8405-00-NSH-1366—Size 30

8405-00-NSH-1365—Size 28

8405-00-NSH-1367—Size 32

8405-00-NSH-1368—Size 34

8410-00-NSH-6329—size 4

8410-00-NSH-6330—size 6

8410-00-NSH-6331—size 8

8410-00-NSH-6337—size 20

8410-00-NSH-6338—size 22

8410-00-NSH-6334—size 14

8410-00-NSH-6332—size 10

8410-00-NSH-6333—size 12

8410-00-NSH-6335—size 16

8410-00-NSH-6336—size 18

8410-00-NSH-6340—size 4

8410-00-NSH-6341—size 6

8410-00-NSH-6342—size 8

8410-00-NSH-6347—size 18

8410-00-NSH-6339—size 2

8410-00-NSH-6348—size 20

8410-00-NSH-6349—size 22

8410-00-NSH-6350—size 24

8410-00-NSH-6343—size 10

8410-00-NSH-6344—size 12

8410-00-NSH-6345—size 14

8410-00-NSH-6346—size 16

8410-00-NSH-6406—size 4

8410-00-NSH-6407—size 6

8410-00-NSH-6408—size 8

8410-00-NSH-6413—size 18

8410-00-NSH-6405—size 2

8410-00-NSH-6414—size 20

8410-00-NSH-6415—size 22

8410-00-NSH-6416—size 24

8410-00-NSH-6409—size 10

8410-00-NSH-6410—size 12

8410-00-NSH-6411—size 14

8410-00-NSH-6412—size 16

8410-00-NSH-6351—Small

8410-00-NSH-6377—Small Tall

8410-00-NSH-6354—X Large

8410-00-NSH-6380—X Large Tall

8410-00-NSH-6355—XX Large

8410-00-NSH-6381—XX Large Tall

8410-00-NSH-6382—XXX Large Tall

8410-00-NSH-6356—XXX Large

8410-00-NSH-6353—Large

8410-00-NSH-6379—Large Tall

8410-00-NSH-6352—Medium

8410-00-NSH-6378—Medium Tall

8410-00-NSH-6358—Small

8410-00-NSH-6384—Small Tall

8410-00-NSH-6361—X Large

8410-00-NSH-6387—X Large Tall

8410-00-NSH-6362—XX Large

8410-00-NSH-6388—XX Large Tall

8410-00-NSH-6363—XXX Large

8410-00-NSH-6389—XXX Large Tall

8410-00-NSH-6360—Large

8410-00-NSH-6386—Large Tall

8410-00-NSH-6359—Medium

8410-00-NSH-6385—Medium Tall

8410-00-NSH-6391—Small

8410-00-NSH-6392—Small Tall

8410-00-NSH-6397—X Large

8410-00-NSH-6398—X Large Tall

8410-00-NSH-6399—XX Large

8410-00-NSH-6400—XX Large Tall

8410-00-NSH-6401—XXX Large

8410-00-NSH-6402—XXX Large Tall

8410-00-NSH-6395—Large

8410-00-NSH-6396—Large Tall

8410-00-NSH-6393—Medium

8410-00-NSH-6394—Medium Tall

8405-00-NSH-1229—X Large

8405-00-NSH-1230—XX Large

8405-00-NSH-1231—XXX Large

8405-00-NSH-1228—Large

8405-00-NSH-1227—Medium

8405-00-NSH-1234—X Large

8405-00-NSH-1235—XX Large

8405-00-NSH-1236—XXX Large

8405-00-NSH-1233—Large

8405-00-NSH-1232—Medium

8405-00-NSH-1257—X Large

8405-00-NSH-1258—XX Large

8405-00-NSH-1345—XX Large Tall

8405-00-NSH-1259—XXX Large

8405-00-NSH-1346—XXX Large Tall

8405-00-NSH-1344—X Large Tall

8405-00-NSH-1255—Medium

8405-00-NSH-1256—Large

8405-00-NSH-1343—Large Tall

8405-00-NSH-1390—X Large

8405-00-NSH-1392—XX Large

8405-00-NSH-1394—XXX Large

8405-00-NSH-1388—Large

8405-00-NSH-1386—Medium

8405-00-NSH-1400—X Large

8405-00-NSH-1402—XX Large

8405-00-NSH-1404—XXX Large

8405-00-NSH-1398—Large

8405-00-NSH-1396—Medium

8405-00-NSH-1420—X Large

8405-00-NSH-1422—XX Large

8405-00-NSH-1424—XXX Large

8405-00-NSH-1418—Large

8405-00-NSH-1416—Medium

8405-00-NSH-1242—Knee Length, 44

8405-00-NSH-1241—Knee Length, 42

8405-00-NSH-1240—Knee Length, 40

8405-00-NSH-1239—Knee Length, 38

8405-00-NSH-1238—Knee Length, 36

8405-00-NSH-1237—Knee Length, 34

8405-00-NSH-1245—Knee Length, 50

8405-00-NSH-1244—Knee Length, 48

8405-00-NSH-1243—Knee Length, 46

8410-00-NSH-6365—Knee Length, X Small

8410-00-NSH-6366—Knee Length, Small

8410-00-NSH-6370—Knee Length, XX Large

8410-00-NSH-6367—Knee Length, Medium

8410-00-NSH-6368—Knee Length, Large

8405-00-NSH-1145—16-16.5 Neck, 34-35 Sleeve

8405-00-NSH-1140—14-14.5 Neck, 32-33 Sleeve

8405-00-NSH-1141—14-14.5 Neck, 33-34 Sleeve

8405-00-NSH-1142—15-15.5 Neck, 33-34 Sleeve

8405-00-NSH-1143—15-15.5 Neck, 34-35 Sleeve

8405-00-NSH-1144—16-16.5 Neck, 33-34 Sleeve

8405-00-NSH-1146—17-17.5 Neck, 34-35 Sleeve

8405-00-NSH-1147—17-17.5 Neck, 35-36 Sleeve

8405-00-NSH-1148—18-18.5 Neck, 35-36 Sleeve

8405-00-NSH-1149—18-18.5 Neck, 36-37 Sleeve

8405-00-NSH-1150—19-19.5 Neck, 36-37 Sleeve

8405-00-NSH-1151—19-19.5 Neck, 37-38 Sleeve

8405-00-NSH-1152—20-20.5 Neck, 37-38 Sleeve

8405-00-NSH-1153—20-20.5 Neck, 38-39 Sleeve

8405-00-NSH-1154—21-21.5 Neck, 38-39 Sleeve

8405-00-NSH-1155—21-21.5 Neck, 40-41 Sleeve

8405-00-NSH-1156—22-22.5 Neck, 40-41 Sleeve

8405-00-NSH-1157—22-22.5 Neck, 41-42 Sleeve

Contracting Activity: AMS 31C3, Washington, DC

8405-00-NSH-1215—Small

8405-00-NSH-1320—Small Tall

8405-00-NSH-1218—X Large

8405-00-NSH-1323—X Large Tall

8405-00-NSH-1219—XX Large

8405-00-NSH-1322—Large Tall

8405-00-NSH-1217—Large

8405-00-NSH-1216—Medium

8405-00-NSH-1321—Medium Tall

8405-00-NSH-1324—XX Large Tall

8405-00-NSH-1220—XXX Large

8405-00-NSH-1325—XXX Large Tall

8405-00-NSH-1221—Small

8405-00-NSH-1326—Small Tall

8405-00-NSH-1224—X Large

8405-00-NSH-1329—X Large Tall

8405-00-NSH-1223—Large

8405-00-NSH-1328—Large Tall

8405-00-NSH-1222—Medium

8405-00-NSH-1327—Medium Tall

8405-00-NSH-1225—XX Large

8405-00-NSH-1330—XX Large Tall

8405-00-NSH-1226—XXX Large

8405-00-NSH-1331—XXX Large Tall

8405-00-NSH-1272—Small Tall

8405-00-NSH-1170—X Large

8405-00-NSH-1275—X Large Tall

8405-00-NSH-1171—XX Large

8405-00-NSH-1169—Large

8405-00-NSH-1274—Large Tall

8405-00-NSH-1168—Medium

8405-00-NSH-1273—Medium Tall

8405-00-NSH-1167—Small

8405-00-NSH-1276—XX Large Tall

8405-00-NSH-1172—XXX Large

8405-00-NSH-1277—XXX Large Tall

8405-00-NSH-1278—Small Tall

8405-00-NSH-1176—X Large

8405-00-NSH-1281—X Large Tall

8405-00-NSH-1177—XX Large

8405-00-NSH-1175—Large

8405-00-NSH-1279—Medium Tall

8405-00-NSH-1280—Large Tall

8405-00-NSH-1174—Medium

8405-00-NSH-1178—XXX Large

8405-00-NSH-1283—XXX Large Tall

8405-00-NSH-1282—XX Large Tall

8405-00-NSH-1173—Small

8405-00-NSH-1284—Small Tall

8405-00-NSH-1287—X Large Tall

8405-00-NSH-1183—XX Large

8405-00-NSH-1181—Large

8405-00-NSH-1182—X Large

8405-00-NSH-1286—Large Tall

8405-00-NSH-1180—Medium

8405-00-NSH-1285—Medium Tall

8405-00-NSH-1179—Small

8405-00-NSH-1184—XXX Large

8405-00-NSH-1289—XXX Large Tall

8405-00-NSH-1288—XX Large Tall

8405-00-NSH-1290—Small Tall

8405-00-NSH-1188—X Large

8405-00-NSH-1293—X Large Tall

8405-00-NSH-1189—XX Large

8405-00-NSH-1187—Large

8405-00-NSH-1292—Large Tall

8405-00-NSH-1186—Medium

8405-00-NSH-1291—Medium Tall

8405-00-NSH-1185—Small

8405-00-NSH-1294—XX Large Tall

8405-00-NSH-1190—XXX Large

8405-00-NSH-1295—XXX Large Tall

8405-00-NSH-1296—Small Tall

8405-00-NSH-1194—X Large

8405-00-NSH-1299—X Large Tall

8405-00-NSH-1195—XX Large

8405-00-NSH-1193—Large

8405-00-NSH-1298—Large Tall

8405-00-NSH-1192—Medium

8405-00-NSH-1297—Medium Tall

8405-00-NSH-1191—Small

8405-00-NSH-1300—XX Large Tall

8405-00-NSH-1196—XXX Large

8405-00-NSH-1301—XXX Large Tall

8405-00-NSH-1302—Small Tall

8405-00-NSH-1200—X Large

8405-00-NSH-1305—X Large Tall

8405-00-NSH-1201—XX Large

8405-00-NSH-1199—Large

8405-00-NSH-1304—Large Tall

8405-00-NSH-1198—Medium

8405-00-NSH-1303—Medium Tall

8405-00-NSH-1197—Small

8405-00-NSH-1306—XX Large Tall

8405-00-NSH-1202—XXX Large

8405-00-NSH-1307—XXX Large Tall

8405-00-NSH-1308—Small Tall

8405-00-NSH-1206—X Large

8405-00-NSH-1207—XX Large

8405-00-NSH-1311—X Large Tall

8405-00-NSH-1205—Large

8405-00-NSH-1310—Large Tall

8405-00-NSH-1204—Medium

8405-00-NSH-1309—Medium Tall

8405-00-NSH-1203—Small

8405-00-NSH-1312—XX Large Tall

8405-00-NSH-1313—XXX Large Tall

8405-00-NSH-1208—XXX Large

8405-00-NSH-1314—Small Tall

8405-00-NSH-1212—X Large

8405-00-NSH-1317—X Large Tall

8405-00-NSH-1213—XX Large

8405-00-NSH-1209—Small

8405-00-NSH-1211—Large

8405-00-NSH-1316—Large Tall

8405-00-NSH-1210—Medium

8405-00-NSH-1315—Medium Tall

8405-00-NSH-1318—XX Large Tall

8405-00-NSH-1214—XXX Large

8405-00-NSH-1319—XXX Large Tall

8405-00-NSH-1410—X Large

8405-00-NSH-1408—Large

8405-00-NSH-1406—Medium

8405-00-NSH-1412—XX Large

8405-00-NSH-1414—XXX Large

Contracting Activity: USDA APHIS MRPBS, Minneapolis, MN

Mandatory Source of Supply: Human Technologies Corporation, Utica, NY

8415-01-103-1349—Cover, Helmet, Desert Camouflage

8415-01-327-4824—Cover, Helmet, Parachutists, Army, Desert Camouflage, X Small/Small

Mandatory Source of Supply: Human Technologies Corporation, Utica, NY

Contracting Activity: DLA Troop Support, Philadelphia, PA

NSNs—Product Names:

8415-01-103-1349—Cover, Helmet, Desert Camouflage

8415-01-327-4824—Cover, Helmet, Parachutists, Army, Desert Camouflage, X Small/Small

Mandatory Source of Supply: Chautauqua County Chapter, NYSARC, Jamestown, NY

8415-01-103-1349—Cover, Helmet, Desert Camouflage

Mandatory Source of Supply: North Bay Rehabilitation Services, Inc., Rohnert Park, CA

8415-01-144-1860—Cover, Helmet, Snow Camouflage

8415-01-144-1861—Cover, Helmet, Navy, White Snow Camouflage, Medium/Large

Mandatory Source of Supply: Human Technologies Corporation, Utica, NY

8415-01-144-1860—Cover, Helmet, Snow Camouflage

8415-01-144-1861—Cover, Helmet, Navy, White Snow Camouflage, Medium/Large

8415-01-494-4591—Cover, Parachutists' and Ground Troops' Helmet, All Services, Snow Camouflage, XSS

8415-01-103-1349—Cover, Helmet, Desert Camouflage

8415-01-327-4824—Cover, Helmet, Parachutists, Army, Desert Camouflage, X Small/Small

Mandatory Source of Supply: Mount Rogers Community Services Board, Wytheville, VA

Contracting Activity: DLA Troop Support, Philadelphia, PA

Patricia Briscoe,
Deputy Director, Business Operations (Pricing and Information Management).

[FR Doc. 2017-23985 Filed 11-2-17; 8:45 am]

BILLING CODE 6353-01-P